FEDERAL LABOR RELATIONS AUTHORITY

5 CFR Parts 2471 and 2472

Procedures of the Panel; Miscellaneous Requirements

AGENCY: Federal Service Impasses Panel, Federal Labor Relations Authority.

ACTION: Proposed rule.

SUMMARY: The Federal Labor Relations Authority's (FLRA) Federal Service Impasses Panel (FSIP) is proposing updates to its regulations to establish revised methods by which the public may obtain specific forms from the FSIP, and then file, or formally submit, those forms and other documents during the course of FSIP proceedings.

DATES: Written comments must be received on or before March 18, 2024.

ADDRESSES: You may send comments, which must include the caption “FSIP Procedures of the Panel; Miscellaneous Requirements,” by one of the following methods:

Email: SolMail@flra.gov. Include “FSIP Procedures of the Panel; Miscellaneous Requirements” in the subject line of the message.

Mail: Thomas Tso, Solicitor, Federal Labor Relations Authority, 1400 K Street NW, Suite 300, Washington, DC 20424-0001.

Instructions: Do not mail written comments if they have been submitted via email. Interested persons who mail written comments must submit an original and 4 copies of each written comment, with any enclosures, on 8½ x 11 inch paper. Do not deliver comments by hand.

FOR FURTHER INFORMATION CONTACT: Kimberly Moseley, Executive Director, Federal Service Impasses Panel, at kmoseley@flra.gov or at: 771-444-5765.

SUPPLEMENTARY INFORMATION: Due primarily to budgetary constraints, the Federal Labor Relations Authority (FLRA), including FSIP, is consolidating its office space at 1400 K Street NW, Washington, DC, so that all of the offices currently on the second floor of that address will now be located on the third floor, along with the other FLRA offices that are already located on the third floor. Additionally, as FSIP continues to move towards fully electronic case files, it wishes to strongly encourage parties to file any permissible documents through the eFiling system, and to implement a requirement that allows in-person filing of forms or documents in FSIP matters by permission only, at an appointed time. To the extent that moving to an “appointment-only” in-person filing system has any effect at all on parties' filing practices, it should promote eFiling. Further, it would assist FSIP—which has currently a staff of only four employees—in more easily managing staff-coverage issues, especially if budget constraints or other considerations prevent it from filling vacancies as they arise.

Given these considerations, the FSIP proposes to amend 5 CFR parts 2471.2, 2471.5, 2472.3, 2472.5, and 2472.6 to update procedures for obtaining FSIP-specific forms and then filing or formally submitting those forms and other documents during the course of proceedings before the FSIP. The proposed amendments would promote eFiling, and conserve FSIP staff's time and efficiency by allowing staff members to accept documents after giving advance permission, and at specific appointed times. This arrangement will allow staff members to avoid remaining on constant stand-by for lengthy periods of time each week to accept forms and documents, thus losing the opportunity to perform other critical tasks.

Regulatory Flexibility Act Certification

Pursuant to section 605(b) of the Regulatory Flexibility Act, 5 U.S.C. 605(b), the Chairman of the FSIP has determined that this proposed rule will not have a significant impact on a substantial number of small entities, because this proposed rule applies only to Federal agencies, Federal employees, and labor organizations representing those employees.

Executive Order 12866, Regulatory Review

The FLRA is an independent regulatory agency and thus not subject to the requirements of E.O. 12866 (58 FR 51735, Sept. 30, 1993).

Executive Order 13132, Federalism

The FLRA is an independent regulatory agency and thus not subject to the requirements of E.O. 13132 (64 FR 43255, Aug. 4, 1999).

Unfunded Mandates Reform Act of 1995

This proposed rule will not result in the expenditure by state, local, and tribal governments, in the aggregate, or by the private sector, of $100,000,000 or more in any one year, and it will not significantly or uniquely affect small governments. Therefore, no actions were deemed necessary under the provisions of the Unfunded Mandates Reform Act of 1995.

Small Business Regulatory Enforcement Fairness Act of 1996

This action is not a major proposed rule as defined by section 804 of the Small Business Regulatory Enforcement Fairness Act of 1996. This proposed rule will not result in an annual effect on the economy of $100,000,000 or more; a major increase in costs or prices; or significant adverse effects on competition, employment, investment, productivity, innovation, or on the ability of United States-based companies to compete with foreign-based companies in domestic and export markets.

Paperwork Reduction Act of 1995

The proposed regulations contain no additional information collection or record-keeping requirements under the Paperwork Reduction Act of 1995, 44 U.S.C. 3501, et seq.

List of Subjects in 5 CFR Parts 2471 and 2472

Administrative practice and procedure, Government employees, Labor management relations.

For the reasons discussed in the preamble, the FLRA proposes to amend 5 CFR parts 2471 and 2472 as follows:

PART 2471—PROCEDURES OF THE PANEL

1. The authority citation for part 2471 continues to read as follows:

Authority: 5 U.S.C. 7119, 7134.

2. Revise § 2471.2 to read as follows:

§ 2471.2 Request form.

A form is available for parties to use in filing either a request for consideration of an impasse or an approval of a binding arbitration procedure. Copies are available on the FLRA's website at www.flra.gov or, with advance permission only, from the Office of the Executive Director, Federal Service Impasses Panel, Suite 300, 1400 K Street NW, Washington, DC 20424-0001. Telephone (771) 444-5762. Use of the form is not required, provided that the request includes all of the information set forth in § 2471.3.

3. Amend § 2471.5 by revising paragraphs (a) introductory text, (a)(1), (b) introductory text, (b)(1), and (d) to read as follows:

§ 2471.5 Filing and Service.

(a) Filing and service of request.

(1) Any party submitting a request for Panel consideration of an impasse or a request for approval of a binding arbitration procedure shall file an original and one copy with the Panel, unless the request is filed electronically as discussed below. A clean copy may be submitted for the original. Requests may be submitted electronically through use of the eFiling system on the FLRA's website at www.flra.gov, or by registered mail, certified mail, regular mail, or commercial delivery. Requests also may be accepted by the Panel if transmitted to the facsimile machine of its office, the number of which is (202) 482-6674. A party submitting a request by facsimile shall also file an original for the Panel's records, but failure to do so shall not affect the validity of the filing by facsimile, if otherwise proper. While requests may also be submitted by in-person delivery to the FSIP, you must first obtain permission, by calling (771) 444-5762, and then schedule an appointment at least one business day in advance of submission. In-person delivery is accepted with permission, and by appointment only, Monday through Friday (except federal holidays).

* * * * *

(b) Filing and service of other documents.

(1) Any party submitting a response to, or other document in connection with, a request for Panel consideration of an impasse or a request for approval of a binding arbitration procedure shall file an original and one copy with the Panel, with the exception of responses or documents filed simultaneously with the electronic filing of a request through use of the FLRA's eFiling system. Responses or documents may be submitted electronically through use of the eFiling system on the FLRA's website at www.flra.gov, or by registered mail, certified mail, regular mail, or commercial delivery. Responses or documents also may be accepted by the Panel if transmitted to the facsimile machine of its office, the number of which is (202) 482-6674. A party submitting a response or document by facsimile shall also file an original for the Panel's records, but failure to do so shall not affect the validity of the filing by facsimile, if otherwise proper. While responses or documents may also be submitted by in-person delivery to the FSIP, you must first obtain permission, by calling (771) 444-5762, and then schedule an appointment at least one business day in advance of submission. In-person delivery is accepted with permission, and by appointment only, Monday through Friday (except federal holidays).

* * * * *

(d) The date of service or date served shall be the day when the matter served, if properly addressed, is deposited in the U.S. mail, deposited with a commercial-delivery service that will provide a record showing the date the document was tendered to the delivery service, or delivered in person after permission to do so is granted. Where service is made by electronic or facsimile transmission, the date of service shall be the date of transmission.

* * * * *

PART 2472—IMPASSES ARISING PURSUANT TO AGENCY DETERMINATIONS NOT TO ESTABLISH OR TO TERMINATE FLEXIBLE OR COMPRESSED WORK SCHEDULES

4. The authority citation for part 2472 continues to read as follows:

Authority: 5 U.S.C. 6131.

5. Revise § 2472.3 to read as follows:

§ 2472.3 Request for Panel Consideration.

Either party, or the parties jointly, may request the Panel to resolve an impasse resulting from an agency determination not to establish or to terminate a flexible or compressed work schedule by filing a request as hereinafter provided. A form is available for use by the parties in filing a request with the Panel. Copies are available on the FLRA's website at www.flra.gov or, with advance permission only, from the Office of the Executive Director, Federal Service Impasses Panel, Suite 300, 1400 K Street NW, Washington, DC 20424-0001. Telephone (771) 444-5762. Fax (202) 482-6674. Use of the form is not required provided that the request includes all of the information set forth in § 2472.4.

6. Revise § 2472.5 to read as follows:

§ 2472.5 Where to file.

Requests to the Panel provided for in this part must either be filed electronically through use of the FLRA's eFiling system on the FLRA's website at www.flra.gov, or be addressed to the Executive Director, Federal Service Impasses Panel, Suite 300, 1400 K Street NW, Washington, DC 20424-0001. All inquiries or correspondence on the status of impasses or other related matters must be submitted by regular mail to the street address above, by using the telephone number (771) 444-5762, or by using the facsimile number (202) 482-6674.

7. Amend § 2472.6 by revising paragraphs (a) introductory text, (a)(1), (b) introductory text, (b)(1), and (d) to read as follows:

§ 2472.6 Filing and service.

(a) Filing and service of request.

(1) Any party submitting a request for Panel consideration of an impasse filed pursuant to § 2472.3 of these rules shall file an original and one copy with the Panel unless the request is filed electronically as discussed below. A clean copy may be submitted for the original. Requests may be submitted electronically through use of the eFiling system on the FLRA's website at www.flra.gov, or by registered mail, certified mail, regular mail, or commercial delivery. Requests also may be accepted by the Panel if transmitted to the facsimile machine of its office, the number of which is (202) 482-6674. A party submitting a request by facsimile shall also file an original for the Panel's records, but failure to do so shall not affect the validity of the filing by facsimile, if otherwise proper. While requests may also be submitted by in-person delivery to the FSIP, you must first obtain permission, by calling (771) 444-5762, and then schedule an appointment at least one business day in advance of submission. In-person delivery is accepted with permission, and by appointment only, Monday through Friday (except federal holidays).

* * * * *

(b) Filing and service of other documents.

(1) Any party submitting a response to, or other document in connection with, a request for Panel consideration of an impasse filed pursuant to § 2472.3 shall file an original and one copy with the Panel, with the exception of responses or documents that are filed simultaneously with the electronic filing of a request for Panel consideration. A clean copy may be submitted for the original. Responses or documents may be submitted electronically through use of the eFiling system on the FLRA's website at www.flra.gov, or by registered mail, certified mail, regular mail, or commercial delivery. Responses or documents also may be accepted by the Panel if transmitted to the facsimile machine of its office, the number of which is (202) 482-6674. A party submitting a response or document by facsimile shall also file an original for the Panel's records, but failure to do so shall not affect the validity of the filing by facsimile, if otherwise proper. While responses or documents may also be submitted by in-person delivery to the FSIP, you must first obtain permission, by calling (771) 444-5762, and then schedule an appointment at least one business day in advance of submission. In-person delivery is accepted with permission, and by appointment only, Monday through Friday (except federal holidays).

* * * * *

(d) The date of service or date served shall be the day when the matter served, if properly addressed, is deposited in the U.S. mail, deposited with a commercial-delivery service that will provide a record showing the date the document was tendered to the delivery service, or delivered in person after permission to do so is granted. Where service is made by electronic or facsimile transmission, the date of service shall be the date of transmission.

* * * * *

Approved: February 12, 2024.
Thomas Tso,
Solicitor and Federal Register Liaison, Federal Labor Relations Authority.

[FR Doc. 2024-03210 Filed 2-15-24; 8:45 am]

BILLING CODE 7627-01-P